DEPARTMENT OF COMMERCE

National Oceanic and Atmospheric Administration

50 CFR Part 660

[Docket No. 201204-0325]

RIN 0648-BL10

Magnuson-Stevens Act Provisions; Fisheries Off West Coast States; Pacific Coast Groundfish Fishery; 2021-2022 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial and recreational groundfish fisheries. This action is intended to allow commercial and recreational fishery participants to access more abundant groundfish stocks while protecting rebuilding stocks.

DATES: This final rule is effective January 1, 2022.

FOR FURTHER INFORMATION CONTACT: Sean E. Matson, (206) 526-6140, email: sean.matson@noaa.gov.

ADDRESSES:

Electronic Access

This rule is accessible via the internet at the Office of the Federal Register website at https://www.federalregister.gov. Background information and documents are available at the Pacific Fishery Management Council's website at http://www.pcouncil.org/.

SUPPLEMENTARY INFORMATION:

Background

The Pacific Coast Groundfish Fishery Management Plan (PCGFMP) and its implementing regulations at title 50 in the Code of Federal Regulations (CFR), part 660, subparts C through G, regulate fishing for over 90 species of groundfish off the coasts of Washington, Oregon, and California. The Pacific Fishery Management Council (Council) develops groundfish harvest specifications and management measures for two year periods (i.e., a biennium). NMFS published the final rule to implement harvest specifications and management measures for the 2021-2022 biennium for most species managed under the PCGFMP on December 11, 2020 (85 FR 79880). In general, the management measures set at the start of the biennial harvest specifications cycle help the various sectors of the fishery attain, but not exceed, the catch limits for each stock. The Council, in coordination with Pacific Coast Treaty Indian Tribes and the States of Washington, Oregon, and California, recommends adjustments to the management measures during the fishing year to achieve this goal.

At its meeting on November 15-22, 2021, the Council made recommendations for the 2022 fishing year, which included decreasing trip limits for the Limited Entry (LE) and Open Access (OA) fixed gear (FG) sablefish, Daily Trip Limit (DTL) fisheries north of 36° N latitude. The Council also recommended increasing trip limits for the fixed gear lingcod fishery, north of 42° N latitude (LE and OA), beginning January 1, 2022, and for the remainder of the 2022 fishing year unless superseded by a subsequent action. Additionally, the Council recommended new sub-bag limits and sub-trip limits, in recreational and non-trawl commercial fisheries respectively, for two nearshore species, quillback rockfish and copper rockfish, as well as the shelf species vermillion rockfish.

Pacific Coast groundfish fisheries are managed using harvest specifications or limits (e.g., overfishing limits [OFL], acceptable biological catch [ABC], annual catch limits [ACL] and harvest guidelines [HG]) recommended biennially by the Council and based on the best scientific information available at that time (50 CFR 660.60(b)). During development of the harvest specifications, the Council also recommends management measures (e.g., trip limits, area closures, and bag limits) that are meant to manage catch so as not to exceed the harvest specifications. The harvest specifications and management measures developed for the 2021-2022 biennium used data through the 2020 fishing year. Each of the adjustments to management measures discussed below are based on updated fisheries information that was unavailable when the analysis for the current harvest specifications was completed. As new fisheries data become available, projected impacts of management measures are updated, and the management measures themselves may need to be adjusted so as to help harvesters achieve but not exceed the harvest limits.

Sablefish (Anoplopoma fimbria) is an important commercial species on the West Coast, targeted by vessels using both bottom trawl and fixed gear (longlines and pots/traps). The sablefish stock is managed with a coast-wide OFL and ABC, but with separate ACLs north and south of 36° N latitude. In 2022, the ACL for sablefish north of 36° N latitude is 6,566 metric tons (mt) with a fishery HG of 5,872 mt. The fishery HG north of 36° N latitude is further divided between the LE FG and OA sectors with 90.6 percent, or 5,320 mt, allocated to the LE sector and 9.4 percent, or 552 mt, allocated to the OA sector. The LE share is divided so that 58 percent is allocated to trawl and 42 percent is allocated to FG. The LE FG share is further divided between the sablefish primary (tier) fishery (85% or 1,899 mt) and the daily trip limit (DTL) fisheries (15% or 335 mt), as shown in Table 2c to title 50, part 660, subpart C. The sablefish DTL fisheries are individually managed using landing targets (Table 1), which have accounted for discard mortality a priori, by subtracting 4.5 percent from the DTL catch share. This same method of accounting for discard mortality to calculate the landing target is also used in managing the OA sablefish DTL fishery, north of 36° N latitude (Table 1).

Lingcod (Ophiodon elongates) is another important commercial species on the West Coast, and like sablefish, caught by vessels with both trawl and fixed gear (longlines and pots/traps). The lingcod stock is managed separately north and south of 40°10′ N latitude, with a northern ACL of 4,958 mt in 2022, a fishery HG of 4,679.6 mt, and a northern trawl fixed gear allocation of 2,105.8, or 45 percent of the HG, and a northern non-trawl allocation of 2,573.8, or 55 percent. Lingcod north of 40°10′ N latitude are additionally managed north and south of 42° N latitude, typically with different trip limits set north and south of that management line.

Quillback rockfish (Sebastes maliger) off California (CA), are currently managed as part of the Minor Nearshore Rockfish complex, which is split north and south of 40°10′ N latitude. A stock assessment conducted in 2021 indicated the stock is not healthy, and interim measures to reduce mortality are warranted while broader measures are being developed as part of the 2023-2024 groundfish biennial harvest specifications and management measures. For 2022, the Minor Nearshore Rockfish complex south of 40°10′ N latitude has an ACL of 1,010 mt, with a contribution ACL value for quillback rockfish of 4.18 mt. The Minor Nearshore Rockfish complex north of 40°10′ N latitude has an ACL of 93.4 mt, with a contribution ACL value for quillback rockfish of 9.74 mt. Quillback rockfish are caught in both recreational and commercial fisheries; while considered a deeper nearshore rockfish species, commonly found in waters shallower than 30 fathoms, they can be encountered in deeper waters, and depth-based encounter rates are largely driven by depth restrictions on the fishery. The Minor Nearshore Rockfish complexes, including quillback rockfish, are managed using trip limits in the commercial fixed gear fishery and bag limits in recreational fishery.

Copper rockfish (Sebastes caurinus) off CA are also currently managed as part of the Minor Nearshore Rockfish complex, south of 40°10′ N latitude; as well as the Minor Nearshore Rockfish complex north of 40°10′ N latitude, but only in the area between 42° and 40°10′ N latitude. Copper rockfish are a deeper nearshore rockfish species, but can commonly be found both in shallow nearshore waters, as well as deeper waters considered as the “shelf.” They are caught in both recreational and commercial fisheries. Copper rockfish were also the subject of a 2021 stock assessment which indicated localized depletion within the stock off California. For 2022, the Minor Nearshore Rockfish complex, south of 40°10′ N latitude has an ACL of 1,233.2 mt, and copper rockfish has a component ACL of 202 mt within the southern complex. The Minor Nearshore Rockfish complex, north of 40°10′ N latitude has an ACL of 77 mt, and copper rockfish has an ACL contribution of 8.06 mt within the northern complex.

Vermillion rockfish (Sebastes miniatus) off CA are currently managed as part of the Minor Shelf Rockfish complex, south of 40°10′ N latitude; as well as the Minor Shelf Rockfish complex north of 40°10′ N latitude, but only in the area between 42° and 40°10′ N lat. For 2022, the southern complex has an ACL of 1,428 mt, and vermillion has an ACL contribution of 209.5 mt; the northern complex has an ACL of 1,450 mt, and vermillion has an ACL contribution of 7.6 mt within it.

Request, Analysis, and Council Recommendation

Sablefish

At the November 2021 Council meeting, the Council's Groundfish Management Team (GMT) analyzed updated fishery data, and produced model-based projections for the fixed gear, LE and OA DTL fisheries north of 36° N lat., for the 2022 fishing year. Model projections for 2022 using the current sablefish trip limits in regulation indicated that catch would dramatically exceed target levels, unless lower limits were adopted. The GMT modeled lower alternative trip limits, uniformly distributed among bimonthly periods throughout the year, as requested by the Groundfish Advisory Subpanel (GAP).

The intent of setting sablefish trip limits is to optimize harvest opportunities, within each annual sector target, for vessels targeting sablefish, under a mix of daily, weekly, and bimonthly landings accumulation limits (commonly referred to collectively as “trip limits”). To evaluate potential decreases to sablefish trip limits, the GMT made model-based projections of landings under current regulations, as well as alternative sablefish trip limits, including the limits ultimately recommended by the Council, throughout the year in 2022. Table 1 shows the projected sablefish landings, the sablefish harvest targets, and the projected attainment percentage by fishery under both the current trip limits and the Council's recommended adjusted trip limits. These projections were based on the most recent catch information available through early November 2021. Industry did not request changes to sablefish trip limits for the LE or OA DTL fisheries south of 36° N latitude. Therefore, NMFS and the Council did not consider changes for those fisheries.

As shown in Table 1, under the current trip limits, models predict that landings of sablefish would be far above the harvest targets for LE fixed gear sablefish DTL fishery north of 36° N lat., at approximately 236 percent attainment, under an average price assumption. Under the Council's recommended trip limits, sablefish attainment is projected to be within the sector target, in the LE DTL fishery north of 36° N latitude, at approximately 99 percent attainment under an average price assumption.

The GMT modeled trip limit options for the OA DTL fishery, north of 36° N latitude which were somewhat lower than the LE trip limits. OA trip limits are typically set lower than in LE, maintaining a higher level of access per vessel for those fishing under a limited entry permit. Trip limits being somewhat lower in the OA fishery also helps to buffer against sometimes high variability in participation, a feature typically not present in the LE fishery. As shown in Table 1, under the current trip limits, models predict approximately 74 percent attainment, under an average price assumption for OA fixed gear sablefish DTL fishery north of 36° N lat. Under the Council's recommended trip limits, sablefish attainment is projected at approximately 70 percent attainment (under the same price structure). In this case, the lower projected attainment may also provide something of a buffer, given the higher uncertainty of the OA model, compared with the LE model, and historic potential for volatility in the OA fishery.

Lingcod

The Council also recommended changes to trip limits in 2022 for lingcod north of 42° N latitude, after request from industry and analysis by the GMT. Trip limit increases were recommended to provide additional opportunity and increase attainment (current lingcod attainment in 2021 is just 17 percent of the ACL), as well as minimize regulatory discard because trip limits are being met by vessels in the first few weeks of the bimonthly period, which results in waste and lost revenue. Table 2 shows the current and recommended trip limits for lingcod north of 42° N latitude. Table 3 shows the projected impacts of those limits to total mortality, and percent attainment of the non-trawl allocation, north of 42° N latitude. Projected impacts to lingcod fishing mortality from the recommended trip limits are approximately 3.5 percent higher than for current limits. Based on the analysis by the GMT, the higher landing limits are predicted to convert fish that would otherwise be discarded, into landings and revenue, rather than incentivize additional effort. By maintaining a very similar level of effort, and total fishing mortality, this modest increase in trip limits is predicted to increase bycatch of yelloweye rockfish by only a trace amount (<0.03 mt). Yelloweye rockfish is managed under a rebuilding plan, and is a constraint to fixed-gear lingcod attainment.

Table 2—Current and Recommended Trip Limits for Lingcod North of 42° N Latitude
Option | Fishery | Area | Jan-Feb | Mar-Apr | May-Jun | Jul-Aug | Sep-Oct | Nov-Dec
Current | LE | N of 42° N lat. | 4,000 lb (1,814 kg)/2 months |  |  |  | 5,000 lb (2,268 kg)/2 months
| OA |  | 2,000 lb (907 kg)/month |  |  |  | 2,500 lb (1,134 kg)/month
Recommended | LE |  | 5,000 lb (2,268 kg)/2 months
| OA |  | 2,500 lb (1,134 kg)/month

Table 3—Projected Impacts for Current and Recommended Trip Limits, Compared to the Non-Trawl Allocation for Lingcod North of 42° N Latitude
Option | Sector | Area | Mortality estimate (mt) | LE + OA (mt) | Non-trawl allocation (mt) | Attainment of allocation (percent)
Current | LE | North of 42° N lat | 25.8 | 106.1 | 2,799.8 | 3.8
| OA |  | 80.3
Recommended | LE |  | 27.5 | 109.9 | 2,799.8 | 3.9
| OA |  | 82.4

Quillback, Copper, and Vermillion Rockfish

The California Department of Fish and Wildlife (CDFW) recommended in the November 2021 PFMC meeting that the Council take inseason action to reduce fishing mortality of quillback, copper, and vermillion rockfish off of California (CA). The recommendation is in response to results of the recent stock assessments. Additionally, CDFW recommended that the Council reduce the existing recreational sub-bag limit of vermillion rockfish, due to recent high catches of this species, south of 40°10′ N lat. The Council, in response, recommended the following inseason changes to non-trawl fisheries off California for 2022, with the goal of reducing total mortality for quillback rockfish, copper rockfish, and vermilion rockfish.

Quillback Rockfish

CDFW staff analyzed potential management measure changes to reduce total fishing mortality of quillback rockfish off CA in both recreational and commercial fisheries, in response to results of the 2021 stock assessment. A range of new quillback-specific sub-trip limits were analyzed in order to reduce fishing mortality in the commercial fishery; current and recommended commercial options appear in Table 4.

For the recreational fishery, analysts examined changes to recreational regulations for quillback rockfish that would minimize impacts on fishing opportunities for other groundfish species, applying depth-dependent discard mortality rates for those fish discarded in excess of a recommended sub-bag limit, assuming the existing season by area fishery structure, and maintaining the current mixed species (i.e., Minor Nearshore Rockfish complex) total bag limit of rockfish of 10 fish. Quillback rockfish are caught in recreational fisheries as a small part of a mixed species bag, and more than 50 percent of anglers who catch quillback, catch only one fish.

Results from the CDFW analysis of current regulations and of measures recommended by the Council appear in Table 4. Combined recommended management measures, between recreational and commercial fisheries statewide, were predicted to result in a 1.6 mt, or 12 percent reduction in estimated total fishing mortality. CDFW also plans to add quillback rockfish to the list of species with additional tracking effort, including frequent inseason projections, to make up for reporting lags, and produce estimates of catch to the current date, to accurately inform future inseason actions, if necessary.

Table 4—Combined Projected Recreational and Commercial Impacts Statewide, for Quillback Rockfish Based on Combinations of Current, and Recommended Management Measures for Both Commercial and Recreational Fisheries (mt, Total Projected Mortality) *
Fishery/option | Commercial: Current— no sub-trip limit | Commercial: Recommended— statewide 75 lb (34 kg)/2 months
Recreational:
Current—no sub-bag limit | 13.5 | 14
Recommended—statewide one fish sub-bag limit | 11.4 | 11.9
* For example, the projection of the total mortality of quillback rockfish that corresponds to implementation of Council-recommended options, including both commercial and recreational catch, appears in the lower right cell (11.9 mt).

Council recommendations for quillback rockfish off CA included:

• Sub-bag limit of one quillback rockfish in the CA recreational fishery.

• Minor nearshore rockfish trip limits between 42°-40° 10′ N lat. of 2,000 lb/2 months, of which no more than 75 lb (34 kg) can be quillback rockfish.

• Deeper nearshore rockfish sub-trip limits south of 40° 10′ N lat. will be 2,000 lb/2 months, of which no more than 75 lb (34 kg) can be quillback rockfish.

Copper Rockfish

CDFW staff analyzed potential management measure changes to reduce total fishing mortality of copper rockfish off CA in both recreational and commercial fisheries in 2022, in response to results of the 2021 stock assessment. Copper rockfish are managed as part of the same nearshore rockfish complexes as quillback, are an important part of the same commercial and recreational fisheries as quillback, and the analysis was approached in similar fashion.

Copper rockfish is a popular recreational species, also caught as part of a mixed species bag. Similar to quillback rockfish, analysts examined changes to recreational regulations to reduce total fishing mortality of copper rockfish without disproportionately impacting fishing opportunities for other rockfish species, applying depth-dependent discard mortality rates for those fish discarded in excess of a recommended sub-bag limit, assuming the existing season by area fishery structure, and maintaining the current mixed species, total bag limit of rockfish of 10 fish.

In the commercial fishery, like quillback, copper rockfish is also part of deeper nearshore fisheries managed using permits, and nearshore rockfish complex trip limits, in areas between 42° and 40° 10′ N lat., and south of 40° 10′ N lat., caught with limited entry fixed, and open access gears. A range of new copper-specific sub-trip limits were analyzed in order to reduce fishing mortality in the commercial fishery.

Results from the CDFW analysis of current regulations in addition to measures recommended by the Council appear in Table 5. Combined recommended management measures, between recreational and commercial fisheries statewide, were predicted to result in a 50 mt, or 25 percent reduction in estimated total fishing mortality. CDFW also plans to add copper rockfish to the list of species with additional tracking effort, including frequent inseason projections, to make up for reporting lags, and produce estimates of catch to the current date.

Table 5—Combined Projected Recreational and Commercial Impacts for Copper Rockfish Statewide, Based on Combinations of Current, and Recommended Management Measures for Both Recreational and Commercial Fisheries (mt, Total Projected Mortality) *
Fishery/option | Commercial: Current— no sub-trip limit | Commercial: Recommended—statewide 75 lb (34 kg)/2 months
Recreational:
Current—no sub-bag limit | 202 | 195.9
Recommended—statewide one fish sub-bag limit | 158.2 | 152.2
* For example, the projection that corresponds to implementation of Council-recommended options for both commercial and recreational appears in the lower right cell (152.2 mt).

Council recommendation:

• A (new) sub-bag limit of one copper rockfish in the California recreational fishery.

• Minor nearshore rockfish trip limits between 42°-40° 10′ N lat. will be 2,000 lb/2 months, of which no more than 75 lb (34 kg) can be copper rockfish.

• Deeper nearshore rockfish sub-trip limits south of 40° 10′ N lat. will be 2,000 lb/2 months, of which no more than 75 lb (34 kg) can be copper rockfish.

Vermilion Rockfish

Current estimates of total catch of vermilion rockfish south of 40°10′ N lat. in 2021 equal 228.7 mt, which translates to 109 percent of the ACL contribution to the complex ACL. CDFW and the Council expect total catch of vermilion rockfish in 2022 to be similar to 2021. Vermillion rockfish is primarily taken in the recreational fishery, and catch projections were made by CDFW staff. Projections for status quo, and the recommended action appear in Table 6. The recommended action is projected to reduce catch of vermillion rockfish south of 40°10′ N lat. to within the OFL contribution (Table 6), and bring it closer to within the ACL contribution value.

Table 6—Combined Projected Recreational and Commercial Impacts for Vermillion Rockfish Statewide, Based on Alternative Management Measures (Current and Recommended) for Recreational Fisheries (mt, Total Projected Mortality) *
Fishery/option | Commercial catch (current, mt) | Difference between bag limits | 2022 OFL contribution | Percent of OFL contribution | 2022 ACL contribution | Percent of ACL contribution
Recreational:
Current: statewide 5-fish sub-bag limit | 270.5 |  | 269.3 | 100.4 | 209.5 | 129.1
Recommended: 4-fish sub-bag limit | 251.2 | 19.3 |  | 93.3 |  | 119.9
* For example, projected combined catch, assuming the Council-recommended option for recreational fisheries, together with the current commercial limits, appears in row two, column one (251.2 mt, which corresponds to 93.3 percent attainment of the OFL contribution).

Council recommendation:

• Reduce the vermilion rockfish five fish sub-bag limit, to four fish, in the CA recreational fishery.

Summary of Changes

Trip limit decreases for sablefish are intended to reduce attainment of the LE and OA DTL fisheries to within their respective fishery targets in the coming 2022 fishing year. Both fisheries contribute to attainment of the non-trawl HG for sablefish north of 36° N latitude, and maintaining these fisheries' catch levels within their specific targets is important to preserving compliance with the harvest guideline and ACL for this highly economically important and typically highly attained species. The trip limit decreases do not change projected impacts to co-occurring rebuilding species as analyzed in the 2021-2022 harvest specifications because the projected impacts to those species assume that the entire sablefish ACL is harvested.

Recommended increases to lingcod north of 42° N latitude are intended to both increase fisher opportunity, and convert regulatory discards into landings and associated revenue, and are not predicted to increase effort or bycatch of co-occurring rebuilding species by more than a trace amount (<0.03 mt of yelloweye rockfish). Therefore, the Council recommended, and NMFS is implementing, by modifying Table 2, North and South to part 660, subpart E, trip limit changes for the LEFG fishery north of 40°10′ N lat., as well as Table 3, North and South to part 660, subpart F to increase the limits as shown in Table 1 (sablefish), and Table 2 (lingcod) in this rule.

Recommended commercial sub-trip limits for quillback, copper, and vermillion rockfish are intended to reduce fishing mortality off CA, due to new information from stock assessments that indicate overfishing in the case of quillback rockfish, precautionary status in the case of copper rockfish, as well as expected repeated exceedance of the ACL and OFL contribution reference points, as during 2015-2019 and 2021 for vermillion rockfish. Therefore, the Council recommended and NMFS is implementing, changes by modifying Table 2, South to part 660, subpart E, as well as Table 3, South to part 660, subpart F, as shown in tables 4, 5 and 6 in this rule.

Recommended recreational sub-bag limits for quillback, copper, and vermillion rockfish are intended to reduce fishing mortality for those stocks off CA in 2022, due to new stock assessments for this species. Therefore, the Council recommended and NMFS is implementing these changes by modifying 50 CFR 660.360(c)(3)(ii)(B) the changes shown in table 6 in this rule.

Classification

This final rule makes routine inseason adjustments to groundfish fishery management measures, based on the best scientific information available, consistent with the PCGFMP and its implementing regulations.

This action is taken under the authority of 50 CFR 660.60(c) and is exempt from review under Executive Order 12866.

The aggregate data upon which these actions are based are available for public inspection by contacting Dr. Sean Matson in the West Coast Region (see FOR FURTHER INFORMATION CONTACT, above), or view at the NMFS West Coast Groundfish website: http://www.westcoast.fisheries.noaa.gov/fisheries/groundfish/index.html.

Pursuant to 5 U.S.C. 553(b), NMFS finds good cause to waive prior public notice and an opportunity for public comment on this action, as notice and comment would be impracticable and contrary to the public interest. The adjustments to management measures in this document modify trip limits for fisheries off of Washington, Oregon, and California to keep catch within allocations. No aspect of this action is controversial, and changes of this nature were anticipated in the final rule for the 2021-2022 harvest specifications and management measures which published on December 11, 2020 (85 FR 79880).

As stated earlier, the Council recommended reduced sablefish limits for 2022 to keep catch within harvest targets and allocations for their respective fisheries, and within the ACL. New information became available at the November 2021 Council meeting showing that updated 2022 catch projections using the most recent available data were much higher than projections made during the harvest specifications process due to a combination of changing fishery conditions, and trip limit changes made during the 2021 fishing year.

The updated trip limits being implemented in this rule are anticipated to provide for landings and fishing community revenue, while maintaining harvest within scientifically informed conservation limits, concomitant with the goals of the Magnuson Stevens Act.

The Council recommended increased lingcod landing limits to provide additional fisher opportunity and discourage regulatory discard. New information became available at the November 2021 Council meeting indicating that low attainment of lingcod could be somewhat improved in 2022 by increasing landing limits, without attracting undue additional effort, and while discouraging regulatory discard. Implementing the recommended trip limits is projected to ameliorate this, increase attainment rate of the allocation, and enable additional fish to be landed rather than wasted, producing more fisher and community revenue.

Additionally, the Council recommended new sub-bag limits, and sub-trip limits in recreational and commercial fisheries, respectively, for three nearshore rockfish species: Quillback rockfish, copper rockfish, and vermillion rockfish. These changes are necessary to reduce fishing mortality of the three stocks, in order to address recent unfavorable stock biomass as demonstrated through new stock assessments (quillback and copper rockfish), and to reduce catch to within management reference points (vermillion rockfish).

Delaying implementation to allow for public comment would, in the case of lingcod, reduce the economic benefits to the commercial fishing industry and the businesses that rely on that industry because it is unlikely the new regulations would in that case publish and be implemented before the beginning of the 2022 calendar year. For sablefish, quillback rockfish, copper rockfish, and vermillion rockfish off of California, delaying implementation could cause conservation issues, and unsustainable harvest at the levels established in the past, using what is now out of date information. Therefore, providing a comment period for this action could both significantly limit the economic benefits to the fishery, and at the same time hamper the adherence to scientifically informed reference points, created to ensure sustainability of the affected fisheries.

Therefore, the NMFS finds reason to waive the 30-day delay in effectiveness pursuant to 5 U.S.C. 553(d)(1) so that this final rule may become effective upon publication in the Federal Register. The adjustments to management measures in this document were requested by the Council's advisory bodies, as well as members of industry during the Council's November 2021 meeting, and recommended unanimously by the Council. No aspect of this action is controversial, and changes of this nature were anticipated in the biennial harvest specifications and management measures established through a notice and comment rulemaking for 2021-2022 (85 FR 79880; December 11, 2021).

List of Subjects in 50 CFR Part 660

Fisheries, Fishing, and Indian Fisheries.

Authority: 16 U.S.C. 1801 et seq., 16 U.S.C. 773 et seq., and 16 U.S.C. 7001 et seq.

Dated: December 20, 2021.
Ngagne Jafnar Gueye,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Revise Table 2 (North) to part 660, subpart E, to read as follows:

BILLING CODE 3510-22-P

3. Revise Table 2 (South) to part 660, subpart E, to read as follows:

4. Revise Table 3 (North) to part 660, subpart F, to read as follows:

5. Revise Table 3 (South) to part 660, subpart F, to read as follows:

6. In § 660.360, revise paragraph (c)(3)(ii)(B) to read as follows:

§ 660.360 Recreational fishery—management measures.

* * * * *

(c) * * *

(3) * * *

(ii) * * *

(B) Bag limits, hook limits. In times and areas when the recreational season for the RCG Complex is open, there is a limit of 2 hooks and 1 line when fishing for the RCG complex. The bag limit is 10 RCG Complex fish per day coastwide, with a sub-bag limit of 4 fish for vermilion rockfish, 1 fish for quillback rockfish, and 1 fish for copper rockfish. These sub-bag limits count towards the bag limit for the RCG Complex and are not in addition to that limit. Retention of yelloweye rockfish, bronzespotted rockfish, and cowcod is prohibited. Multi-day limits are authorized by a valid permit issued by California and must not exceed the daily limit multiplied by the value of days in the fishing trip.

* * * * *

[FR Doc. 2021-27901 Filed 12-22-21; 8:45 am]

BILLING CODE 3510-22-C